ENVIRONMENTAL PROTECTION AGENCY

[EPA-HQ-OPA-2010-0987, FRL-9261-7]

Agency Information Collection Activities: Proposed Collection; Comment Request; Implementation of the Oil Pollution Act Facility Response Plan Requirements (Renewal)

AGENCY: Environmental Protection Agency (EPA).

ACTION: Notice.

SUMMARY: In compliance with the Paperwork Reduction Act (44 U.S.C. 3501 et seq.), this document announces that EPA is planning to submit a continuing Information Collection Request (ICR) to the Office of Management and Budget (OMB). This is a request to renew an existing approved collection. This ICR is scheduled to expire on March 31, 2011. Before submitting the ICR to OMB for review and approval, EPA is soliciting comments on specific aspects of the proposed information collection as described below.

DATES: Comments must be submitted on or before April 4, 2011.

ADDRESSES: Submit your comments, identified by Docket ID No. EPA-HQ-OPA-2010-0987, to EPA, by one of the following methods:

(1) http://www.regulations.gov. Follow the on-line instructions for submitting comments.

(2) E-mail: Docket.RCRA@epa.gov, Attention Docket ID No, EPA-HQ-OPA-2010-0987.

(3) Fax: 202-566-9744, Attention Docket ID No. EPA-HQ-OPA-2010-0987.

(4) Mail: EPA Docket Center, (EPA/DC), Docket ID No. EPA-HQ-OPA-2010-0987, Mail Code 28221T, 1200 Pennsylvania Ave., NW., Washington, DC 20460.

(5) Hand Delivery: EPA Docket Center, (EPA/DC), EPA West, Room 3334, 1301 Constitution Ave., NW., Washington, DC 20460. Attention Docket ID No. EPA-HQ-OPA-2010-0987. Such deliveries are only accepted during the Docket's normal hours of operation, and special arrangements should be made for deliveries of boxed information.

Instructions: Direct your comments to Docket ID No. EPA-HQ-OPA-2010-0987. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/dockets.

FOR FURTHER INFORMATION CONTACT:

J. Troy Swackhammer, Office of Emergency Management, Mail Code 5104A, Environmental Protection Agency, 1200 Pennsylvania Ave., NW., Washington, DC 20460; telephone number: (202) 564-1966; fax number: (202) 564-2625; e-mail address: swackhammer.j-troy@epa.gov.

SUPPLEMENTARY INFORMATION:

How can I access the docket and/or submit comments?

EPA has established a public docket for this ICR under Docket ID No. EPA-HQ-OPA-2010-0987, which is available for online viewing at http://www.regulations.gov, or in person viewing at the EPA Docket Center, EPA/DC, EPA West, Room 3334, 1301 Constitution Ave., NW., Washington, DC. The EPA/DC Public Reading Room is open from 8:30 a.m. to 4:30 p.m., Monday through Friday, excluding legal holidays. The telephone number for the Reading Room is (202) 566-1744, and the telephone number to make an appointment to view the docket is (202) 566-0276.

Use http://www.regulations.gov to obtain a copy of the draft collection of information, submit or view public comments, access the index listing of the contents of the docket, and to access those documents in the public docket that are available electronically. Once in the system, select “search,” then key in the docket ID number identified in this document.

What information is EPA particularly interested in?

Pursuant to section 3506(c)(2)(A) of the PRA, EPA specifically solicits comments and information to enable it to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

What should I consider when I prepare my comments for EPA?

You may find the following suggestions helpful for preparing your comments:

1. Explain your views as clearly as possible and provide specific examples.

2. Describe any assumptions that you used.

3. Provide copies of any technical information and/or data you used that support your views.

4. If you estimate potential burden or costs, explain how you arrived at the estimate that you provide.

5. Offer alternative ways to improve the collection activity.

6. Make sure to submit your comments by the deadline identified under DATES.

7. To ensure proper receipt by EPA, be sure to identify the docket ID number assigned to this action in the subject line on the first page of your response. You may also provide the name, date, and Federal Register citation.

What information collection activity or ICR does this apply to?

Affected entities: Entities potentially affected by this action are a subset of facilities that are required to have a Spill Prevention, Control, and Countermeasure (SPCC) plan under the Oil Pollution Prevention regulation (40 CFR part 112) and which, because of their location, could reasonably expected to cause “substantial harm” to the environment by discharging oil into or on navigable waters or adjoining shorelines. Owners and operators of these facilities must prepare and submit an Facility Response Plan (FRP) to EPA. The criteria for a substantial harm facility include:

• Oil transfers over water to or from a vessel and a total storage capacity of greater than or equal to 42,000 gallons; or

• Total oil storage capacity of greater than or equal to one million gallons and meet one or more of the following harm factors: insufficient secondary containment; proximity to fish and wildlife and sensitive environments; discharge of oil could shut down a drinking water intake; and/or facility experienced a reportable oil discharge of 10,000 gallons or more in last 5 years; or

• Other factors considered by the Regional Administrator. (See 40 CFR 112.20(b)(1) and (f) for further information about the criteria for substantial harm.)

The specific private industry sectors subject to this action include, but are not limited to: (1) Petroleum Bulk Stations and Terminals (NAICS 42271); (2) Electric Power Generation, Transmission, and Distribution (NAICS 2211); (3) Gasoline Stations/Automotive Rental and Leasing (NAICS 4471/5321); (4) Heating Oil Dealers (NAICS 3112); (5) Transportation, Pipelines, and Marinas (NAICS 482-486/488112-48819/4883/48849/492/71393); (6) Grain and Oilseed Milling (NAICS 3112); (7) Manufacturing (NAICS 31-33); (8) Warehousing and Storage (NAICS 493); (9) Crude Petroleum and Natural Gas Extraction (211111); (10) Mining and Heavy Construction (NAICS 2121/2123/213114/213116/234); (11) Schools (NAICS 6111-6113; (12) Hospitals (622-623); (13) Crop and Animal Production (NAICS 111-112); and (14) Other Commercial Facilities (miscellaneous).

Title: Implementation of the Oil Pollution Act Facility Response Plan Requirements (40 CFR Part 112) (Renewal).

ICR numbers: EPA ICR Number 1630.10; OMB Control Number 2050-0135.

ICR status: This ICR is currently scheduled to expire on March 31, 2011. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: The authority for EPA's FRP requirements is derived from section 311(j)(5) of the Clean Water Act, as amended by the Oil Pollution Act of 1990. EPA's regulation is codified at 40 CFR 112.20 and 112.21. All FRP reporting and recordkeeping activities are mandatory. This information collection request renewal has not substantively changed from the last ICR approval (March 31, 2008).

Purpose of Data Collection

An FRP will help an owner or operator identify the necessary resources to respond to an oil spill in a timely manner. If implemented effectively, the FRP will reduce the impact and severity of oil spills and may prevent spills through the identification of risks at the facility. Although the owner or operator is the primary data user, EPA also uses the data in certain situations to ensure that facilities comply with the regulation and to help allocate response resources. State and local governments may use the data, which are not generally available elsewhere and can greatly assist local emergency preparedness planning efforts. EPA reviews all submitted FRPs and must approve FRPs for those facilities whose discharges may cause significant and substantial harm to the environment in order to ensure that facilities believed to pose the highest risk have planned for adequate resources and procedures to respond to a spill. (See 40 CFR 112.20(f)(3) for further information about the criteria for significant and substantial harm.)

Response Plan Certification. Under section 112.20(e), the owner or operator of a facility that does not meet the substantial harm criteria in section 112.20(f)(1) must complete and maintain at the facility the certification form contained in Appendix C to part 112.

Response Plan Preparation. Under section 112.20(a) or (b), the owner or operator of a facility that meets the “substantial harm” criteria in section 112.20(f)(1) must prepare and submit to the EPA Regional Administrator an FRP following section 112.20(h). Such a facility may be a newly constructed facility or may be an existing facility that meets paragraph (f)(1) as a result of a planned change (paragraph (a)(2)(iii)) or an unplanned change (paragraph (a)(2)(iv)) in facility characteristics. Under paragraph (c), the owner or operator may be required to amend the FRP.

Response Plan Maintenance. Under section 112.20(g), the owner or operator must periodically review the FRP to ensure consistency with the National Oil and Hazardous Substances Pollution Contingency Plan and Area Contingency Plans and update the plan to reflect changes at the facility. Under section 112.20(d), the facility owner or operator must revise and resubmit revised portions of the FRP after material changes at the facility. FRP changes that do not result in a material change in response capabilities shall be provided to the Regional Administrator as they occur. Periodic drills and exercises are required of the planholder to test the effectiveness of the FRP.

Recordkeeping. Under section 112.20(e), an owner or operator who determines that the requirements do not apply must certify and retain a record of this determination. An owner or operator who is subject to the requirements must keep the FRP at the facility (section 112.20(a)), keep updates to the FRP (section 112.20(d)(1) and (2)), and log activities such as discharge prevention meetings, response training, and drills and exercises (section 112.20(h)(8)(iv)).

Number of Regulated Facilities. Since approval of the current ICR (March 31, 2008), EPA has continued to maintain an inventory of facilities that have prepared and submitted an FRP to EPA. This national inventory of FRP facilities is periodically compiled by EPA headquarters based on data maintained by each of EPA's ten regional offices. The inventory was updated in April 2010 and comprises a total of 4,341 plan holders versus an inventory of 4,132 plan holders in the prior ICR renewal. Of the 4,341 planholders, 81 are Federal facilities, resulting in a universe of 4,260 non-Federal government FRP facilities. In the prior ICR renewal, a total of 3,942 non-Federal government FRP facilities were included. Since the number of affected facilities has not changed substantively since the last renewal, EPA is not substantively revising the ICR supporting statement at this time, but is accepting comment on areas that may need revisions or updating.

Burden Statement: The average annual reporting and recordkeeping burdens for this collection of information on a newly regulated facility for which an FRP is not required (i.e., facility where the owner or operator certifies that the facility does not meet the “substantial harm” criteria) is estimated to be 0.4 hour per year. The average annual reporting and recordkeeping burdens on a newly regulated facility for which an FRP is required (i.e., first-year costs for plan development) are estimated at 240.1 hours per year. The average annual reporting and recordkeeping burdens on a facility for which the owner or operator is maintaining an FRP (i.e., subsequent year costs for annual plan maintenance) are estimated at 99.7 hours. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

The ICR supporting statement provides a detailed explanation of the Agency's estimate, which is only briefly summarized here:

Estimated total number of potential respondents: 22,574.

Frequency of response: Less than once per year.

Estimated total annual burden hours: 432,627 hours.

Estimated total annual costs: $17,427,828 includes $29,483 annualized capital costs.

Are There Changes in the Estimates From the Last Approval?

EPA estimates that there is no substantive change in the total estimated respondent burden compared with that identified in the ICR currently approved by OMB. This conclusion is based on EPA's current inventory of facilities that have submitted and are maintaining an FRP as per 40 CFR part 112. EPA has not amended the FRP regulation since the last ICR renewal that would affect the per-facility regulatory burden. EPA will consider the comments received and amend the ICR as appropriate. The final ICR package will then be submitted to OMB for review and approval pursuant to 5 CFR 1320.12. At that time, EPA will issue another Federal Register notice pursuant to 5 CFR 1320.5(a)(1)(iv) to announce the submission of the ICR to OMB and the opportunity to submit additional comments to OMB. If you have any questions about this ICR or the approval process, please contact the technical person listed under FOR FURTHER INFORMATION CONTACT.

Dated: January 19, 2011.
Maryann Petrole,
Acting Director, Office of Emergency Management, U.S. Environmental Protection Agency, Office of Solid Waste and Emergency Response.

[FR Doc. 2011-2410 Filed 2-2-11; 8:45 am]

BILLING CODE 6560-50-P